DEPARTMENT OF COMMERCE

International Trade Administration

[A-580-825]

Oil Country Tubular Goods From Korea: Extension of Time Limit for Preliminary Results of Antidumping Duty Administrative Review and New Shipper Review

AGENCY: Import Administration, International Trade Administration, Department of Commerce.

ACTION: Notice of extension of time limit for preliminary results of administrative review.

EFFECTIVE DATE: May 6, 2002.

FOR FURTHER INFORMATION CONTACT: Tom Gilgunn or Scott Lindsay, AD/CVD Enforcement, Import Administration, International Trade Administration, U.S. Department of Commerce, 14th Street and Constitution Avenue, NW, Washington DC 20230; telephone: (202) 482-4236 or (202) 482-0780, respectively.

The Applicable Statute

Unless otherwise indicated, all citations to the statute are references to the Tariff Act of 1930, as amended (the Act). In addition, unless otherwise indicated, all citations to the Departments's regulations are to the current regulations, codified at 19 CFR part 351 (2001).

Background

On August 31, 2001, the Department of Commerce (the Department) received timely requests to conduct an administrative review of the antidumping duty order on oil country tubular goods from Korea. On October 1, 2001, the Department published a notice of initiation of this administrative review, covering the period of August 1, 2000 through July 31, 2001 (66 FR 49924).

Extension of Time Limits for Preliminary Results

Because of the complexity and timing of certain issues in this case, specifically the use of third country sales and the appropriate basis for determining normal value, it is not practicable to complete this review within the usual time limits mandated by section 751(a)(3)(A) of the Act. Therefore, we are extending the due date for the preliminary results of the administrative review of SeAH until August 26, 2002, pursuant to section 751(a)(3)(A). The final results continue to be due 120 days after the publication of the preliminary results. We note that on February 6, 2002, the Department aligned the new shipper review of Shinho Steel Co., Ltd. (Shinho) with this administrative review of oil country tubular goods from Korea (67 FR 5563). Therefore, the due date for the preliminary determination of the new shipper review of Shinho is also extended to August 26, 2002.

Dated: April 23, 2002.
Joseph A. Spetrini,
Deputy Assistant Secretary for Import Administration, Group III.

[FR Doc. 02-11077 Filed 5-3-02; 8:45 am]

BILLING CODE 3510-DS-P